DEPARTMENT OF ENERGY

Federal Energy Regulatory Commission

[Docket No. ER00-980-006, et al.]

Bangor Hydro-Electric Company, et al.; Electric Rate and Corporate Regulation Filings

June 26, 2002.

The following filings have been made with the Commission. The filings are listed in ascending order within each docket classification.

1. Bangor Hydro-Electric Company

[Docket No. ER00-980-006]

Take notice that on June 17, 2002, pursuant to Section 2.11 of the Settlement Agreement filed on November 1, 2000, in Docket No. ER00-980-000, and accepted and modified by the Federal Energy Regulatory Commission (Commission) on February 26, 2001, Bangor-Hydro Electric Company (Bangor Hydro) submits this informational filing showing the implementation of Bangor Hydro's open access transmission tariff formula rate for the charges that became effective on June 1, 2002.

Copies of this filing were sent to Bangor Hydro's open access transmission tariff customers that have requested to receive a copy (Indeck Maine Energy, L.L.C.), the Commission Trial Staff, the Maine Public Utilities Commission, and the Maine Public Advocate.

Comment Date: July 8, 2002.

2. Maine Public Service Company

[Docket No. ER00-1053-006]

Take notice that on June 17, 2002, pursuant to Section 2.4 of the Settlement Agreement filed on June 30, 2000, in Docket No. ER00-1053-000, and accepted by the Federal Energy Regulatory Commission on September 15, 2000, Maine Public Service Company (MPS) submits this informational filing setting forth the changed open access transmission tariff charges effective June 1, 2002 together with back-up materials.

Copies of this filing were served on the parties to the Settlement Agreement in Docket No. ER00-1053-000, the Commission Trial Staff, the Maine Public Utilities Commission, the Maine Public Advocate, and current MPS open access transmission tariff customers.

Comment Date: July 8, 2002.

3. Oncor Electric Delivery Company

[Docket No. ER02-2019-000]

Take notice that on June 5, 2002, Oncor Electric Delivery Company (Oncor) tendered for filing its FERC Electric Tariff, Third Revised Volume No. 2 for transmission service to Tex-La Electric Cooperative of Texas (Tex-La) to supersede Oncor's current FERC Electric tariff, Second Revised Volume No. 2.

Oncor states that this filing has been served upon Tex-La and the Public Utility Commission of Texas.

Comment Date: July 15, 2002.

4. Consolidated Edison Company of New York, Inc. (Complainant)

[Docket No. ER02-2126-000]

Take notice that on June 20, 2002, Consolidated Edison Company of New York, Inc. (Con Edison) tendered for filing an unexecuted Interconnection Agreement (Agreement) between Con Edison and PSEG Power In-City I, LLC (PSEG Power). Con Edison requested that the Agreement be allowed to become effective September 1, 2002.

Con Edison states that copies of the filing were served upon PSEG Power, the New York Independent System Operator, and the New York Public Service Commission.

Comment Date: July 11, 2002.

5. Boston Edison Company

[Docket No. ER02-2127-000]

Take notice that Boston Edison Company (BECo), on June 20, 2002, tendered for filing pursuant to the provisions of Section 205 of the Federal Power Act unexecuted Service Agreements for the Town of Concord, Massachusetts, Municipal Light Department (Concord) and the Town of Wellesley, Massachusetts, Municipal Light Department (Wellesley), respectively, to take local network transmission service pursuant to the provisions of BECo's FERC Electric Tariff, Volume No. 8. BECo requests a June 1, 2002 effective date.

BECo states that copies of this filing have been served upon Concord and Wellesley and on the Massachusetts Department of Telecommunications and Energy.

Comment Date: July 11, 2002.

5. Maine Electric Power Company and Central Maine Power Company

[Docket No. ER02-2128-000]

Please take notice that on June 26, 2002 , Maine Electric Power Company (MEPCO) and Central Maine Power Company (CMP) tendered for filing a Support Services Agreement for support services provided by MEPCO to CMP, and designated as Rate Schedule FERC No. 18, Supplement No. 1.

Comment Date: July 11, 2002.

6. American Electric Power Service Corporation

[Docket No. ER02-2129-000]

Take notice that on June 20, 2002, the American Electric Power Service Corporation (AEPSC), tendered for filing an executed Network Integration Transmission Service Agreement for Central Virginia Electric Cooperative (CVEC). This agreement is pursuant to the AEP Companies' Open Access Transmission Service Tariff (OATT) that has been designated as the Operating Companies of the American Electric Power System FERC Electric Tariff, Second Revised Volume No. 6.

AEPSC requests waiver of notice to permit the Service Agreements to be made effective for service on and after May 21, 2002. A copy of the filing was served upon the CVEC and the state utility regulatory commissions of Arkansas, Indiana, Kentucky, Louisiana, Michigan, Ohio, Oklahoma, Tennessee, Texas, Virginia and West Virginia.

Comment Date: July 11, 2002.

7. Lake Road Generating Company, L.P.

[Docket No. ER02-2130-000]

Take notice that on June 20, 2002, Lake Road Generating Company, L.P. (Lake Road) tendered for filing an Electric Purchase/Sale Agreement for power sales (Agreement) with PG&E Energy Trading-Power, L.P. (PGET) pursuant to which Lake Road will sell electric wholesale services to PGET at market-based rates according to its FERC Electric Tariff, Original Volume No. 1.

Comment Date: July 11, 2002.

8. Virginia Electric and Power Company

[Docket No. ER02-2131-000]

Take notice that on June 20, 2002, Virginia Electric and Power Company (the Company) respectfully tendered for filing the following Service Agreement by Virginia Electric and Power Company to Sempra Energy Trading Corp. designated as Service Agreement No. 18 under the Company's Wholesale Market-Based Rate Tariff, FERC Electric Tariff, Original Volume No. 6, effective on June 15, 2000.

The Company respectfully requests an effective date of June 1, 2002, as requested by the customer. Copies of the filing were served upon Sempra Energy Trading Corp., the Virginia State Corporation Commission, and the North Carolina Utilities Commission.

Comment Date: July 11, 2002.

9. Dominion Energy Marketing, Inc.

[Docket No. ER02-2133-000]

Take notice that on June 20, 2002, Dominion Energy Marketing, Inc. (the Company) respectfully tendered for filing the following Service Agreement by Dominion Energy Marketing, Inc. to Sempra Energy Trading Corp. designated as Service Agreement No 6 under the Company's Market-Based Sales Tariff, FERC Electric Tariff, Original Volume No. 1, effective on December 15, 2000. The Company requests an effective date of June 1, 2002, as requested by the customer.

Copies of the filing were served upon the Sempra Energy Trading Corp., the Virginia State Corporation Commission, and the North Carolina Utilities Commission.

Comment Date: July 11, 2002.

10. Just Energy, LLC

[Docket No. ER02-2134-000]

Take notice that on June 19, 2002, Just Energy, LLC (Just Energy) petitioned the Federal Energy Regulatory Commission (Commission) for acceptance of Just Energy Rate Schedule FERC No. 1; the granting of certain blanket approvals, including the authority to sell electricity at market-based rates; and the waiver of certain Commission regulations.

Just Energy intends to engage in wholesale electric power and energy purchases and sales as a marketer. Just Energy is not in the business of generating or transmitting electric power. Just Energy sells electricity to customers in various deregulated states.

Comment Date: July 11, 2002.

11. Central Maine Power Company and Maine Electric Power Company

[Docket No. ER02-2135-000]

Please take notice that on June 20, 2002 , Central Maine Power Company (CMP) and Maine Electric Power Company (MEPCO) tendered for filing a Support Services Agreement for support services provided by CMP to MEPCO, and designated as Rate Schedule FERC No. 115, First Revised

Comment Date: July 11, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-16971 Filed 7-5-02; 8:45 am]

BILLING CODE 6717-01-P